DEPARTMENT OF THE INTERIOR

Fish and Wildlife Service

[FWS-R1-ES-2008-N0342; 14420-1113-1SPB-F3]

Endangered and Threatened Wildlife and Plants; Permit Application; Safe Harbor Agreement for Northern Idaho Ground Squirrel, Adams County, ID

AGENCY: Fish and Wildlife Service, Interior.

ACTION: Receipt of application; notice of availability.

SUMMARY: The Fish and Wildlife Service (Service) announces the receipt of an application for an enhancement of survival permit (Permit) pursuant to section 10(a)(1)(A) of the Endangered Species Act of 1973, as amended (Act). The Permit application includes a proposed Safe Harbor Agreement (SHA) for the threatened northern Idaho ground squirrel (Spermophilus brunneus brunneus) between Hixon Properties Incorporated (applicant) and the Service. The term of the proposed SHA is 10 years, and the requested term of the permit is 15 years. The Service has made a preliminary determination that the proposed SHA and Permit application are eligible for categorical exclusion under the National Environmental Policy Act of 1969 (NEPA). The basis for this preliminary determination is contained in an Environmental Action Statement. The Service is accepting comments on the Permit application, the proposed SHA, and the Environmental Action Statement.

DATES: We will accept comments received on or before February 25, 2009.

ADDRESSES: Written comments concerning this notice should be addressed to Kendra Womack, Snake River Fish and Wildlife Office, 1387 S Vinnell Way, Room 368, Boise, ID 83709. You may also submit written comments by facsimile, at 208-378-5262, or by electronic mail to fw1srbocomment@fws.gov.

FOR FURTHER INFORMATION CONTACT: Kendra Womack at 208-378-5243. If you use a telecommunications device for the deaf (TDD), you may call the Federal Information Relay Service (FIRS) at 800-877-8339.

SUPPLEMENTARY INFORMATION:

Document Availability

Copies of the Permit application, the draft SHA, and the Environmental Action Statement are available for public inspection, by appointment, at the Snake River Fish and Wildlife Office (see ADDRESSES), or they may be viewed on the internet at the following address: http://www.fws.gov/idaho. The Service is furnishing this notice to provide the public, other State and Federal agencies, and interested Tribes an opportunity to review and comment on the draft SHA, Permit application, and Environmental Action Statement.

Background

Under Safe Harbor Agreements, participating property owners voluntarily undertake management activities on their properties to enhance, restore, or maintain habitat benefitting species listed under the Act (16 U.S.C. 1531 et seq.). Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements can be found in 50 CFR 17.22(c).

The area to be covered under the proposed SHA (Covered Area) is approximately 7,783 acres (ac) (3,150 hectares (ha)) and is located just north of Bear, Adams County, Idaho. Northern Idaho ground squirrels currently occupy approximately 714-ac (289-ha) of the 7,783-ac (3,150-ha) Covered Area. Due to normal population fluctuations and the difficulty of identifying current population levels, the agreed upon baseline for the property is 714 acres and the applicant would be allowed to return his property to this baseline condition at the end of the permit term.

This proposed SHA is intended to result in a net conservation benefit by maintaining northern Idaho ground squirrel habitat within a 714-ac (289-ha) baseline area, allowing access to researchers affiliated with the Service or Idaho Department of Fish and Game (IDFG); requiring notification of the Service and IDFG prior to activities that will result in “take” of the species so that they may capture and relocate affected individuals if appropriate; allowing the Service and IDFG personnel access to the property to conduct ground squirrel conservation activities approved by the applicant such as habitat maintenance and enhancement, ground squirrel surveys, and translocation of ground squirrels; and establishing some limits on the conduct of chemical rodent control in the squirrel management area. In addition, the applicant may also work with the Service and others to implement timber-related habitat enhancement measures that will potentially increase habitat for squirrels within the covered area.

The biological goal of ground squirrel conservation measures in the SHA is to expand the northern Idaho ground squirrel population at this site within and beyond the 714-ac (289-ha) baseline area by reducing threats and enhancing habitat for the species. The proposed SHA is intended to contribute to the recovery of the northern Idaho ground squirrel by reducing threats, expanding and increasing the viability of the ground squirrel population at this site, improving habitat conditions, and potentially facilitating translocation of ground squirrels to other sites in need of population supplementation, as appropriate.

Consistent with the Service's Safe Harbor policy, under the proposed SHA and the proposed Permit, we would authorize incidental take of northern Idaho ground squirrels as a result of the following covered activities within the Covered Area provided they are carried out in accordance with the terms of the SHA: livestock husbandry; farming operations; logging; recreation; construction of buildings and roads that does not diminish the baseline area; existing residential use; and fire management activities.

We provide this notice pursuant to section 10(c) of the Act and the implementing regulations for NEPA (40 CFR 1506.6). We will evaluate the Permit application, associated documents, and comments submitted thereon to determine whether the Permit application meets the requirements of section 10(a) of the Act and to ensure adequate NEPA compliance. If we determine that all of these requirements are met, we will sign the proposed SHA and issue an enhancement of survival permit under section 10(a)(1)(A) of the Act to the applicant for take of northern Idaho ground squirrels incidental to otherwise lawful activities in accordance with the terms of the SHA. We will not make our final decision until after the end of the 30-day public comment period and will fully consider all comments received during the public comment period.

Dated: December 19, 2008.
Jeffery L. Foss,
Field Supervisor, Snake River Fish and Wildlife Office, Boise, Idaho.

[FR Doc. E9-1604 Filed 1-23-09; 8:45 am]

BILLING CODE 4310-55-P